NUCLEAR REGULATORY COMMISSION

Atomic Safety and Licensing Board Panel

[Docket No's. 50-369-LR, 50-370-LR, 50-413-LR, and 50-414-LR; ASLBP No. 02-794-01-LR]

In the Matter of Duke Energy Corporation, (McGuire Nuclear Station, Units 1 and 2, Catawba Nuclear Station, Units 1 and 2); Notice of Hearing Before Administrative Judges: Ann Marshall Young, Chair, Dr. Charles N. Kelber, Lester S. Rubenstein

January 31, 2002.

This proceeding concerns the license renewal application (LRA) of Duke Energy Corporation (Duke), seeking approval under 10 CFR part 54 to renew the operating licenses for its McGuire Nuclear Station, Units 1 and 2, and Catawba Nuclear Station, Units 1 and 2, for additional twenty-year periods commencing in 2021, 2023, 2024 and 2026, respectively. After noting receipt of the application, see 66 FR 37,072 (July 16, 2001), the NRC Staff determined it to be complete and acceptable for docketing and on August 15, 2001, provided a notice of opportunity for hearing with regard to the application. See 66 FR 42,893 (Aug. 15, 2001). In response to this notice, Petitioners Nuclear Information and Resource Service (NIRS) and Blue Ridge Environmental Defense League (BREDL), both appearing through non-attorney representatives, timely filed petitions to intervene and requests for hearing on September 14, 2001. By Order dated October 4, 2001, the Nuclear Regulatory Commission referred the hearing requests and intervention petitions to the Atomic Safety and Licensing Board Panel, CLI-01-20, 54 NRC 211 (2001), and on October 5, 2001, an Atomic Safety and Licensing Board, consisting of the members listed above, was established to preside over the proceeding. See 66 FR 52,158 (Oct. 12, 2001).

Notice is hereby given that, by Memorandum and Order dated January 24, 2002, the Board granted Petitioners NIRS and BREDL a hearing, after holding oral argument in Charlotte, North Carolina, on December 18-19, 2001. LBP-02-04, 54 NRC (Jan. 24, 2002). In this Memorandum and Order, the Board found that both NIRS and BREDL have standing to proceed, admitted contentions relating to the anticipated use of plutonium mixed oxide (MOX) fuel in the Duke plants and to ice condensers and station blackout risks, and certified one question relating to terrorism risks to the Commission for its consideration.

This proceeding will be conducted under the Commission's hearing procedures set forth in 10 CFR part 2, subpart G. During the course of the proceeding, the Board may conduct additional oral argument as provided in 10 CFR 2.755, hold additional prehearing conferences pursuant to 10 CFR 2.752, and conduct an evidentiary hearing in accordance with 10 CFR 2.750-.751. The time and place of these sessions will be announced in Licensing Board Orders. Except as limited by the parameters of telephone conferences (which will in any event be transcribed), members of the public are invited to attend any such sessions.

Additionally, as provided in 10 CFR 2.715(a), any person not a party to the proceeding may submit a written limited appearance statement setting forth his or her position on the issues in the proceeding. Persons wishing to submit a written limited appearance statement should send it to the Office of the Secretary, U.S. Nuclear Regulatory Commission, Washington, DC 20555, Attention: Rulemakings and Adjudications Staff. A copy of the statement should also be served on the Chair of the Atomic Safety and Licensing Board. At a later date, the Board will entertain oral limited appearance statements at a location in the vicinity of the Duke plants, which are both situated within a 20-mile radius of Charlotte, North Carolina. Notice of these oral limited appearance sessions will be published in the Federal Register and/or made available to the public at the NRC Public Document Room (PDR).

Documents related to this proceeding are available electronically through the Agencywide Documents access and Management System (ADAMS), with access to the public through the NRC's Internet Web site (Public Electronic Reading Room Link, http://www.nrc.gov/reading-rm/adams.html. The NRC Public Documents Room (PDR) and many public libraries have terminals for public access to the Internet. Documents that may relate to this proceeding that are dated earlier than December 1, 1999, are available in microfiche form (with print form available on one-day recall) for public inspection at the PDR, Room 0-1 F21, NRC One White Flint North, 11555 Rockville Pike, Rockville, Maryland 20852-2738.

Rockville, Maryland.
Dated: January 31, 2002.
For the Atomic Safety and Licensing Board¹
¹ Copies of this Notice of Hearing were sent this date by Internet e-mail or facsimile transmission, if available, to all participants or counsel for participants.
Ann Marshall Young,
Chair, Administrative Judge.

[FR Doc. 02-2810 Filed 2-5-02; 8:45 am]

BILLING CODE 7590-01-P